DEPARTMENT OF COMMERCE

National Oceanic and Atmospheric Administration

50 CFR Part 648

[Docket No. 150105004-5355-01]

RIN 0648-XD984

Fisheries of the Northeastern United States; Northeast Multispecies Fishery; Possession Limit Adjustments for the Common Pool Fishery

AGENCY: National Marine Fisheries Service (NMFS), National Oceanic and Atmospheric Administration (NOAA), Commerce.

ACTION: Temporary rule; inseason adjustment.

SUMMARY: This action decreases the possession and landing limit for Gulf of Maine cod to zero for Northeast multispecies common pool vessels for the remainder of the 2015 fishing year. NMFS is taking this action because the common pool has caught 44.5 percent of its Trimester 1 Total Allowable Catch Gulf of Maine cod quota in the first month of the trimester. This action is intended to prevent the overharvest of the common pool's fishing year 2015 allocation of Gulf of Maine cod and prevent the closure of the Gulf of Maine to all common pool vessels before the end of the Trimester.

DATES: Effective June 15, 2015, through April 30, 2016.

FOR FURTHER INFORMATION CONTACT: Liz Sullivan, Fishery Management Specialist, 978-282-8493.

SUPPLEMENTARY INFORMATION: Regulations governing the Northeast (NE) multispecies fishery are found at 50 CFR part 648, subpart F. The regulations at 50 CFR 648.86(o) authorize the Regional Administrator (RA) to adjust the possession limits for common pool vessels in order to prevent the overharvest or underharvest of the common pool quotas.

Based on data reported through May 25, 2015, 44.5 percent of the common pool trimester Total Allowable Catch (TAC) of 1.5 mt, and 12 percent of the sub-Annual Catch Limit (sub-ACL) of 5.6 mt for Gulf of Maine (GOM) cod has been caught. Recent analysis shows that the common pool would likely exceed its Trimester TAC for the GOM cod stock before the end of June if action is not taken, which would result in the closure of the GOM cod Trimester TAC Area. We are reducing the possession limit and trip limit for GOM cod to zero. The possession limit and trip limit adjustments are effective June 15, 2015, through April 30, 2016. If a vessel has declared its trip through the vessel monitoring system (VMS) or interactive voice response system, and crossed the VMS demarcation line prior to the effective date, it will not be subject to the new trip limits for that trip.

Under a zero possession limit, the bycatch and discard of GOM cod will continue to be accounted for. On observed common pool trips, observers record actual discards; unobserved trips receive the assumed discard rate based on observed trips. The assumed discard rate is applied based on the pounds of all landed species, which means that even at a zero possession limit for GOM cod, the cumulative catch of GOM cod (which includes both landed and discards) will continue to increase. If vessels respond to this action by vigorously redirecting onto other NE multispecies, the landing of those species and the associated assumed discards of GOM cod could push the cumulative catch of GOM cod closer to 90 percent of the Trimester TAC, potentially triggering the closure of the GOM cod Trimester TAC Area. Alternatively, this action could cause a reduction of common pool fishing effort in the GOM, leading to less bycatch and discard of GOM cod, if the zero possession limit makes it uneconomical for some trips to occur.

Weekly quota monitoring reports for the common pool fishery can be found on our Web site at: http://www.greateratlantic.fisheries.noaa.gov/ro/fso/MultiMonReports.htm. We will continue to monitor common pool catch through vessel trip reports, dealer-reported landings, vessel monitoring system catch reports, VMS catch reports, and other available information, and if necessary, we will make additional adjustments to common pool management measures.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. Pursuant to 5 U.S.C. 553(d)(3), the AA also finds good cause to waive the 30-day delayed effectiveness period.

The regulations at § 648.86(o) authorize the RA to adjust the NE multispecies trip limits for common pool vessels in order to prevent the overharvest or underharvest of the common pool quotas. The catch data and analysis used as the basis for this action only became available on June 1, 2015. The available analysis indicates that if the GOM cod trip limits are not reduced immediately, the common pool fishery will likely exceed its Trimester TAC for this stock. As a result, this action reduces the likelihood that the RA will be required to close a significant portion of the GOM to the common pool fishery. Any overages of the common pool quota for this stock would undermine conservation objectives and trigger the implementation of accountability measures that would have negative economic impacts on the common pool vessels. As a result, the time necessary to provide for prior notice and comment, and a 30-day delay in effectiveness, would prevent NMFS from implementing the necessary trip limit adjustments in a timely manner, which could undermine conservation objectives of the NE Multispecies Fishery Management Plan, and cause negative economic impacts to the common pool fishery.

Authority: 16 U.S.C. 1801 et seq.

Dated: June 12, 2015.
Emily H. Menashes,
Acting Director, Office of Sustainable Fisheries, National Marine Fisheries Service.

[FR Doc. 2015-14942 Filed 6-15-15; 8:45 am]

BILLING CODE 3510-22-P